DEPARTMENT OF STATE

[Public Notice 8067]

Privacy Act; System of Records: Personal Property Claims, State-27

SUMMARY: Notice is hereby given that the Department of State proposes to amend an existing system of records, Personal Property Claims, State-27, pursuant to the provisions of the Privacy Act of 1974, as amended (5 U.S.C. 552a) and Office of Management and Budget Circular No. A-130, Appendix I.

DATES: This system of records will be effective on December 3, 2012, unless we receive comments that will result in a contrary determination.

ADDRESSES: Any persons interested in commenting on the amended system of records may do so by writing to the Director; Office of Information Programs and Services, A/GIS/IPS; Department of State, SA-2; 515 22nd Street NW.; Washington, DC 20522-8001.

FOR FURTHER INFORMATION CONTACT: Director; Office of Information Programs and Services, A/GIS/IPS; Department of State, SA-2; 515 22nd Street NW.; Washington, DC 20522-8001.

SUPPLEMENTARY INFORMATION: The Department of State proposes that the current system will retain the name “Personal Property Claims” (42 FR 49715). The system settles claims for loss, damage, or destruction of personal property. As part of the biennial review, we have updated all of the sections of the notice for the system to ensure Privacy Act of 1974 compliance.

The Department's report was filed with the Office of Management and Budget. The amended system description, “Personal Property Claims, State-27,” will read as set forth below.

Joyce A. Barr,
Assistant Secretary for Administration, U.S. Department of State.

STATE-27

SYSTEM NAME:

Personal Property Claims.

SECURITY CLASSIFICATION:

Unclassified.

SYSTEM LOCATION:

Department of State, SA-3, Suite 5100, 2121 Virginia Ave., Washington, DC 20037.

CATEGORIES OF INDIVIDUALS COVERED BY THE SYSTEM:

Employees of the Department of State and the Agency for International Development who have filed claims for loss of personal property.

CATEGORIES OF RECORDS IN THE SYSTEM:

Claims and determinations of claims which can include information such as names, birthdates, social security numbers (SSNs), employee IDs, addresses, phone numbers, and email addresses.

AUTHORITY FOR MAINTENANCE OF THE SYSTEM:

31 U.S.C. 3701 et seq.

PURPOSE:

This information is used to settle claims for loss, damage, or destruction of personal property.

ROUTINE USES OF RECORDS MAINTAINED IN THE SYSTEM, INCLUDING CATEGORIES OF USERS AND THE PURPOSES OF SUCH USES:

The information may be shared outside the Department of State with the Agency for International Development per the request of the individual making a claim employed by said agency.

This information may also be released to other government agencies having statutory or other lawful authority to maintain such information.

The Department of State periodically publishes in the Federal Register its standard routine uses which apply to all of its Privacy Act systems of records. These notices appear in the form of a Prefatory Statement. These standard routine uses apply to Personal Property Claims, State-27.

DISCLOSURE TO CONSUMER REPORTING AGENCIES:

None.

POLICIES AND PRACTICES FOR STORING, RETRIEVING, ACCESSING, RETAINING, AND DISPOSING OF RECORDS IN THE SYSTEM:

STORAGE:

Hard copy documents stored in physical files and electronic records stored in a database storage system.

RETRIEVABILITY:

Hard copy files are usually retrieved by individual name. Electronic records can be retrieved by search parameters such as claim number, claimant number, claim type, incident place, first name, and last name.

SAFEGUARDS:

All users are given cyber security awareness training which covers the procedures for handling Sensitive but Unclassified information, including personally identifiable information (PII). Annual refresher training is mandatory. In addition, all Foreign Service and Civil Service employees and those Locally Engaged Staff who handle PII are required to take the Foreign Service Institute distance learning course instructing employees on privacy and security requirements, including the rules of behavior for handling PII and the potential consequences if it is handled improperly. Before being granted access to Personal Property Claims, a user must first be granted access to the Department of State computer system. Remote access to the Department of State network from non-Department owned systems is authorized only through a Department approved access program. Remote access to the network is configured with the Office of Management and Budget Memorandum M-07-16 security requirements which include but are not limited to two-factor authentication and time out function.

All Department of State employees and contractors with authorized access have undergone a thorough background security investigation. Access to the Department of State, its annexes and posts abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage. When it is determined that a user no longer needs access, the user account is disabled.

RETENTION AND DISPOSAL:

Records are retired and destroyed in accordance with published Department of State Records Disposition Schedules as approved by the National Archives and Records Administration (NARA). More specific information may be obtained by writing to the Director; Office of Information Programs and Services, A/GIS/IPS; SA-2, Department of State; 515 22nd Street NW.; Washington, DC 20522-8100.

SYSTEM MANAGER(S) AND ADDRESS:

Transportation and Travel Management Division (A/LM/OPS/TTM), Department of State, SA-3, Suite 5100, 2121 Virginia Ave., Washington, DC 20037.

NOTIFICATION PROCEDURE:

Individuals who have cause to believe that the Office of Personal Property Claims might have records pertaining to him or her should write to the Director; Office of Information Programs and Services, A/GIS/IPS; SA-2, Department of State; 515 22nd Street NW.; Washington, DC 20522-8100. The individual must specify that he or she wishes the records of the Office of Personal Property Claims to be checked. At a minimum, the individual must include: Name; date and place of birth; current mailing address and zip code; signature; and other information helpful in identifying the record.

RECORD ACCESS PROCEDURES:

Individuals who wish to gain access to or amend records pertaining to themselves should write to the Director; Office of Information Programs and Services (address above.)

CONTESTING RECORD PROCEDURES:

(See above).

RECORD SOURCE CATEGORIES:

The individual; personnel of the Department of State; insurance companies.

SYSTEMS EXEMPTED FROM CERTAIN PROVISIONS OF THE ACT:

None.

[FR Doc. 2012-26232 Filed 10-23-12; 8:45 am]

BILLING CODE 4710-24-P